COMMITTEE FOR PURCHASE FROM PEOPLE WHO ARE BLIND OR SEVERELY DISABLED

Procurement List; Proposed additions and deletions

ACTION: Proposed additions to and deletions from the Procurement List.

SUMMARY: The Committee is proposing to add to the Procurement List services to be furnished by nonprofit agencies employing persons who are blind or have other severe disabilities, and to delete products and a service previously furnished by such agencies.

Comments Must be Received On or Before: March 9, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION: This notice is published pursuant to 41 U.S.C. 47(a) (2) and 41 CFR 51-2.3. Its purpose is to provide interested persons an opportunity to submit comments on the proposed actions.

Additions:

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services:

Service Type/Location: Custodial Services Air National Guard, 1401 Robert B. Miller Jr. Drive, Garden City, GA

NPA: Trace, Inc., Boise, ID.

Contracting Activity: Air National Guard, 165th Air Wing, Garden City, GA

Service Type/Location: Janitorial/Custodial Services, U.S. Coast Guard, Integrated Support Command (ISC), San Pedro Terminal Station, San Pedro, CA

NPA: Elwyn, Inc., Aston, PA.

Contracting Activity: U.S. Coast Guard -Alameda, Alameda, CA

Service Type/Location: Laundry Services, Blanchfield Army Community Hospital (BACH), Fort Campbell, KY

NPA: Lakeview Center, Inc., Pensacola, FL.

Contracting Activity: Department of the Army, Southeast Regional Contracting Office (SERCO), Fort Gordon, GA

Service Type/Location: Laundry Services, Fort Campbell, Fort Campbell, KY

NPA: Lakeview Center, Inc., Pensacola, FL.

Contracting Activity: Department of the Army, Army Contracting Agency, Directorate of Contracting, Fort Campbell, KY

Service Type/Location: Laundry Services, Air National Guard-Sioux City, 185th Air Refeuling Wing, 2920 Headquarters Avenue, Sioux City, IA

NPA: Genesis Development, Jefferson, IA.

Contracting Activity: Iowa Air National Guard, Sioux City, IA.

Deletions:

Regulatory Flexibility Act Certification

I certify that the following action will not have a significant impact on a substantial number of small entities. The major factors considered for this certification were:

1. If approved, the action should not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and services proposed for deletion from the Procurement List.

Comments on this certification are invited. Commenters should identify the statement(s) underlying the certification on which they are providing additional information.

End of Certification

The following products and service are proposed for deletion from the Procurement List:

Products:

Clocks, Atomic Standard, Thermometer

NSN: 6645-01-491-9837

NSN: 6645-01-491-9840

NSN: 6645-01-491-9841

NSN: 6645-01-491-9844

NSN: 6685-01-492-0910

NPA: The Chicago Lighthouse for People who are Blind or Visually Impaired, Chicago, IL

Contracting Activity: General Services Administration, Office Supplies & Paper Products Acquisition Ctr, New York, NY

Wrapper, Sterilization

NSN: 6530-00-197-9223

NSN: 6530-00-926-4902

NSN: 6530-00-926-4903

NSN: 6530-00-926-4904

NSN: 6530-00-926-4905

NSN: 6530-00-197-9283

NPA: Alabama Industries for the Blind, Talladega, AL

NPA: Blind Industries & Services of Maryland, Baltimore, MD

NPA: Mississippi Industries for the Blind, Jackson, MS

NSN: 6530-00-197-9228

NPA: Alabama Industries for the Blind, Talladega, AL

NPA: Arizona Industries for the Blind, Phoenix, AZ

NPA: Blind Industries & Services of Maryland, Baltimore, MD

NPA: Mississippi Industries for the Blind, Jackson, MS

Contracting Activity: Veterans Affairs National Acquisition Center, Hines, IL

NSN: 6530-01-036-0398

NPA: Unknown

NSN: 6530-01-244-2776

NSN: 6530-01-244-9946

NSN: 6530-01-246-0156

NSN: 6530-01-246-1935

NSN: 6530-01-248-4813

NPA: Alabama Industries for the Blind, Talladega, AL

NPA: Arizona Industries for the Blind, Phoenix, AZ

NPA: Blind Industries & Services of Maryland, Baltimore, MD

NPA: Mississippi Industries for the Blind, Jackson, MS

Contracting Activity: Defense Supply Center Philadelphia, Philadelphia, PA

NSN: 6530-00-299-9603

NPA: Alabama Industries for the Blind, Talladega, AL

NPA: Arizona Industries for the Blind, Phoenix, AZ

NPA: Blind Industries & Services of Maryland, Baltimore, MD

NPA: Mississippi Industries for the Blind, Jackson, MS

Contracting Activity: Defense Supply Center Philadelphia, Philadelphia, PA

Contracting Activity: Veterans Affairs National Acquisition Center, Hines, IL

Service:

Service Type/Location: Commissary Shelf Stocking & Custodial, Fort Stewart, GA

NPA: Unknown

Contracting Activity: Defense Commissary Agency (DeCA), Fort Lee, VA

Kimberly M. Zeich,
Director, Program Operations.

[FR Doc. E8-2366 Filed 2-7-08; 8:45 am]

BILLING CODE 6353-01-P